POSTAL SERVICE

Product Change—Priority Mail Express and Priority Mail Negotiated Service Agreement

AGENCY: Postal Service™.

ACTION: Notice.

SUMMARY: The Postal Service gives notice of filing a request with the Postal Regulatory Commission to add a domestic shipping services contract to the list of Negotiated Service Agreements in the Mail Classification Schedule's Competitive Products List.

DATES: Date of required notice: April 24, 2019.

FOR FURTHER INFORMATION CONTACT: Elizabeth Reed, 202-268-3179.

SUPPLEMENTARY INFORMATION: The United States Postal Service® hereby gives notice that, pursuant to 39 U.S.C. 3642 and 3632(b)(3), on April 18, 2019, it filed with the Postal Regulatory Commission a USPS Request to Add Priority Mail Express & Priority Mail Contract 92 to Competitive Product List. Documents are available at www.prc.gov, Docket Nos. MC2019-127, CP2019-136.

Elizabeth Reed,
Attorney, Corporate and Postal Business Law.

[FR Doc. 2019-08200 Filed 4-23-19; 8:45 am]

BILLING CODE 7710-12-P